DEPARTMENT OF HOMELAND SECURITY

Transportation Security Administration

Extension of Agency Information Collection Activity Under OMB Review: TSA Claims Management Program

AGENCY: Transportation Security Administration, DHS.

ACTION: 30-day Notice.

SUMMARY: This notice announces that the Transportation Security Administration (TSA) has forwarded the Information Collection Request (ICR), OMB control number 1652-0039, abstracted below to the Office of Management and Budget (OMB) for renewal in compliance with the Paperwork Reduction Act. The ICR describes the nature of the information collection and its expected burden. TSA published a Federal Register notice, with a 60-day comment period soliciting comments, of the following collection of information on April 1, 2009, at 74 FR 14808. The collection involves the submission of information from claimants in order to thoroughly examine and resolve tort claims against the agency.

DATES: Send your comments by July 23, 2009. A comment to OMB is most effective if OMB receives it within 30 days of publication.

ADDRESSES: Comments may be mailed or delivered to Ginger LeMay, PRA Officer, Office of Information Technology, TSA-11, Transportation Security Administration, 601 South 12th Street, Arlington, VA 20596-6011. Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Ginger LeMay, Office of Information Technology, TSA-11, Transportation Security Administration, 601 South 12th Street, Arlington, VA 20598-6011; telephone (571) 227-3616 or e-mail ginger.lemay@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Claims Management System.

Type of Request: Renewal of one currently approved Information Collection Request (ICR).

OMB Control Number: 1652-0039.

Form(s): Supplemental Information Form, Payment Form.

Affected Public: Members of the traveling public who believe they have experienced property loss or damage, a personal injury, or other damages due to the negligence or wrongful act or omission of a TSA employee and decide to seek compensation by filing a Federal tort claim against TSA.

Abstract: Submission of a claim is entirely voluntary and initiated by individuals. The claimants (or respondents) to this collection are typically the traveling public. Currently, claimants file a tort claim by submitting to TSA a Standard Form 95 (SF-95), which has been approved under OMB control number 1105-0008. Because TSA requires further clarifying information to thoroughly examine their claim, claimants are asked to complete a Supplemental Information page added to the SF-95. The Supplemental Information page requests claimants to provide additional claim information including: (1) E-mail address, (2) Airport name, (3) Location of incident within the airport, (4) Complete travel itinerary, (5) Whether baggage was delayed by airline, (6) Why they believe TSA was negligent, (7) Whether they used a third-party baggage service, (8) Whether they were traveling under military orders, and (9) Whether they submitted claims with the airlines or insurance.

If TSA determines payment is warranted, TSA will then send the claimant a separate form requesting: (1) Claimant signature, (2) banking information (bank routing number and account number), and (3) Social Security number (required by the U.S. Treasury for all Government payments to the public pursuant to 31 U.S.C. 3325).

Claims instructions and forms are available through the TSA Web site at http://www.tsa.gov. Claimants must download these forms and mail or fax them to TSA. TSA will use all data collected from claimants to examine and analyze tort claims against the agency to determine alleged TSA liability and to reimburse claimants when the claims are approved. In some cases, TSA may use the information to identify victims of theft or to aid any criminal investigations into property theft.

Number of Respondents: 22,800.

Estimated Annual Burden Hours: An estimated 11,400 hours annually.

Issued in Arlington, Virginia, on June 17, 2009.
Ginger LeMay,
Paperwork Reduction Act Officer, Business Improvements and Communications, Office of Information Technology.

[FR Doc. E9-14647 Filed 6-22-09; 8:45 am]

BILLING CODE 9110-05-P